DEPARTMENT OF HOMELAND SECURITY

Federal Emergency Management Agency

[Docket ID: FEMA-2013-0051; OMB No. 1660-0127]

Agency Information Collection Activities: Submission for OMB Review; Comment Request; Logistics Capability Assistance Tool (LCAT)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 28, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Logistics Capability Assistance Tool (LCAT).

Type of information collection: Revision of a currently approved information collection.

OMB Number: 1660-0127.

Form Titles and Numbers: FEMA Form 008-0-1, State Content Guide (formerly LCAT Booklet); FEMA Form 008-0-2, Local Content Guide; FEMA Form 008-0-3, Tribal Content Guide.

Abstract: The Logistics Capability Assistance Tool (LCAT) is a voluntary maturity model for State, local, and Tribal entities to self-assess their disaster logistics planning and response capabilities and identify areas of relative strength and weakness. The LCAT is facilitated through two-day collaborative sessions and is hosted by the requesting emergency management agency's office. FEMA provides the emergency management agencies with a detailed analysis report and roadmap for continuous improvement if the State, local, or Tribal entity decides to share the outcome.

Affected Public: State, local, or Tribal Government.

Estimated Number of Respondents: 41.

Estimated Total Annual Burden Hours: 363 hours.

Estimated Cost: The estimated annual cost to respondents for the hour burden is $15,843.36. There are no annual costs to respondents operations and maintenance costs for technical services. There is no annual start-up or capital costs. The cost to the Federal Government is $252,340.00.

Dated: March 18, 2014.
Charlene D. Myrthil,
Director, Records Management Division, Mission Support Bureau, Federal Emergency Management Agency, Department of Homeland Security.

[FR Doc. 2014-06940 Filed 3-27-14; 8:45 am]

BILLING CODE 9111-23-P